DEPARTMENT OF THE INTERIOR

Bureau of Land Management

[WY-921; WYW 172386]

Notice of Proposed Withdrawal and Transfer of Jurisdiction; Wyoming

AGENCY: Bureau of Land Management, Interior.

ACTION: Notice.

SUMMARY: The United States Department of Energy (DOE) has filed an application requesting the Secretary of the Interior to segregate from the mining laws approximately 749.08 acres of public land and 2559.13 acres of Federal reserved mineral interests underlying private surface estate from mining associated with a proposed withdrawal and transfer of jurisdiction. The proposed withdrawal will protect public health and safety on lands contaminated by previous mining and milling operations. This notice temporarily segregates the lands for up to 2 years from location and entry under the United States mining laws while the withdrawal application is being processed.

DATES: Comments must be received on or before July 14, 2008.

ADDRESSES: Comments should be sent to the State Director, BLM Wyoming State Office, 5353 Yellowstone Road, P.O. Box 1828, Cheyenne, Wyoming 82003-1828.

FOR FURTHER INFORMATION CONTACT: Janet Booth, Realty Specialist, BLM Wyoming State Office, at the above address, 307-775-6124.

SUPPLEMENTARY INFORMATION: The United States Department of Energy has filed an application with the Bureau of Land Management to segregate from the United States mining laws the following described public lands and Federal reserved mineral interests. Jurisdiction over approximately 749.08 acres of public lands and 2559.13 acres of federally owned mineral interests will ultimately be withdrawn and transferred from the Department of the Interior to the Department of Energy, subject to valid existing rights.

Sixth Principal Meridian

T. 29 N., R. 91 W.,

Sec. 6, lots 8 through 13, incl., E½SE¼;

T. 29 N., R. 92 W.,

Sec. 1, lots 1 and 2, S½NE¼, SE¼SE¼;

Sec. 2, SE¼SW¼, SW¼SE¼;

Sec. 11, NW¼NE¼, NE¼NW¼;

Sec. 12, W½NE¼.

The area described contains approximately 749.08 acres of public surface and Federal minerals in Fremont County.

T. 29 N., R. 91 W.,

Sec. 6, lot 5, SE¼NW¼, SW¼SE¼;

Sec. 7, lots 3 and 4, E½SW¼, SW¼SE¼;

Sec. 18, lot 1, NE¼NW¼.

T. 29 N., R. 92 W.,

Sec. 1, lot 4, SW¼, W½SE¼;

Sec. 2, NE¼SW¼, SW¼SW¼, N½SE¼, SE¼SE¼;

Sec. 3, SE¼SE¼;

Sec. 11, NE¼NE¼, NW¼NW¼, S½N½, S½;

Sec. 12, E½NE¼, NW¼, S½;

Sec. 13, N½;

Sec. 14, NE¼, NE¼NW¼.

The area described contains approximately 2559.13 acres of Federal reserved minerals underlying private surface in Fremont County.

The purpose of the proposed withdrawal and transfer of jurisdiction is to allow the United States Department of Energy perpetual administration over the land as a hazardous material site under the authority of the Uranium Mill Tailings Radiation Control Act of 1978, 42 U.S.C. 7902, et seq.

For a period of 90 days from the date of publication of this notice, all persons who wish to submit comments, suggestions, or objections in connection with the proposed action may present their views in writing to the Wyoming State Director, BLM, at the address noted above.

Comments, including names and street addresses of respondents, and records relating to the proposed withdrawal will be available for public review during regular business hours at the BLM Wyoming State Office at the address specified above. Before including your address, phone number, e-mail address, or other personal identifying information in your comments, you should be aware that your entire comment—including your personal identifying information—may be made publicly available at any time. While you can ask us in your comments to withhold your personal identifying information from public review, we cannot guarantee that we will be able to do so.

This application will be processed in accordance with the regulations set forth in 43 CFR 2300.

Rights-of-way, leases, permits, cooperative agreements and other discretionary land use authorizations of a temporary nature would continue under the BLM during the 2-year segregation period.

No water rights would be needed to fulfill the purpose of this withdrawal.

Effective on the date of publication of this notice, the lands will be segregated from location and entry under the United States mining laws. The segregative effect of this application will terminate April 14, 2010, unless final withdrawal action is taken or the application is denied or cancelled prior to that date (43 CFR 2310.2). Notice of any action will be published in the Federal Register.

Notice is hereby given that an opportunity for a public meeting is afforded in connection with the proposed withdrawal and transfer of jurisdiction. All interested persons who desire a public meeting for the purpose of being heard on the proposed withdrawal and transfer of jurisdiction must submit a written request to the BLM Wyoming State Director at the address indicated above within 90 days from the date of publication of this notice. If the authorized officer determines that a public meeting will be held, a notice of the time and place will be published in the Federal Register at least 30 days before the scheduled date of the meeting.

(Authority: 43 CFR 2310.3-1)

Dated: March 24, 2008.
Michael Madrid,
Chief, Branch of Fluid Mineral Operations, Lands and Appraisal.

[FR Doc. E8-7837 Filed 4-11-08; 8:45 am]

BILLING CODE 6450-01-P